DEPARTMENT OF COMMERCE

National Telecommunications and Information Administration

Proposed Information Collection; Comment Request; BroadbandMatch Web Site Tool

AGENCY: National Telecommunications and Information Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 4, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Maureen Lewis, Office of Telecommunications and Information Applications, NTIA, MLewis@ntia.doc.gov, or (202) 482-1892.

SUPPLEMENTARY INFORMATION:

I. Abstract

NTIA proposes to continue BroadbandMatch as an online resource for communities pursuing broadband projects and programs to advance the Obama Administration's goal of increased broadband deployment and use in the United States. The BroadbandMatch Web site began during the final funding round of NTIA's Broadband Technology Opportunities Program (BTOP) and the U.S. Department of Agriculture's Broadband Initiatives Program (BIP) as a tool for potential applicants to identify possible partners whose resources and expertise could strengthen the project proposals. NTIA obtained Office of Management and Budget (OMB) approval to extend BroadbandMatch beyond the September 30, 2010 funding award deadline Congress established in the American Recovery and Reinvestment Act of 2009, Public Law 111-5, 123 Stat. 115 (2009) (Recovery Act), that authorized BTOP and BIP. NTIA believes BroadbandMatch has ongoing utility and ability to cost effectively advance the Administration's goals by facilitating sharing among BTOP grantees and others of best practices for completing successful broadband projects and facilitating partnerships to undertake new broadband projects. BroadbandMatch helps inexpensively to leverage Recovery Act investments to achieve the Administration's ongoing goal of ensuring that all Americans can access affordable, ubiquitous broadband service and develop the skills to use this empowering technology effectively.

II. Method of Collection

BroadbandMatch users access the Web site through an Internet browser and voluntarily complete a brief profile requesting: (1) The point of contact's name, organization, phone number, email address, and associated Web site URL; (2) the state(s) where the user seeks potential partners; the type(s) of partner(s) sought; and (3) a description of the project and the desired benefits of partnering. NTIA verifies the registrant's email address, which becomes the registrant's user name, and emails an assigned password. Registered users may then search the database for potential project partners by organization type, state(s) or keyword(s).

III. Data

OMB Control Number: 0660-0033.

Form Number(s): None

Type of Review: Regular submission (extension of a currently approved information collection).

Affected Public: Individuals; business or other for-profit organizations; not-for-profit institutions; and Federal, state, local, or tribal governments.

Estimated Number of Respondents: 4,500.

Estimated Time per Response: 15 minutes.

Estimated Total Annual Burden Hours: 1,125.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 27, 2013.
Gwellnar Banks,
Management Analyst, Office of the Chief Information Officer.

[FR Doc. 2013-21293 Filed 8-30-13; 8:45 am]

BILLING CODE 3510-06-P